Title 3—

The President

Proclamation 8014 of May 11, 2006

Peace Officers Memorial Day and Police Week, 2006

By the President of the United States of America

A Proclamation

Every day, our Nation's dedicated law enforcement officers put themselves at risk to keep their fellow Americans safe. As we observe Peace Officers Memorial Day and Police Week, we pay tribute to the courageous men and women who have lost their lives protecting us, and we honor all those who wear the badge and keep the peace.

The law enforcement officers of today carry on the long and proud tradition of service built by their predecessors. With valor and distinction, these citizens stand watch over us all and work hard to fight crime, violence, and terrorism in communities across America. We are a country built on the rule of law, and our Nation is grateful to the men and women who enforce those laws and uphold the fairness and peace we treasure.

Law enforcement officers deserve our appreciation for the work they do, and citizens fulfill an important civic responsibility by supporting their work to protect our communities. Through organizations like Citizen Corps, men and women are assisting their local police force, fire department, and neighborhood watch program. More information about Citizen Corps volunteer opportunities can be found at citizencorps.gov. I encourage all Americans to help fight crime in their communities by volunteering and participating in crime prevention organizations. By working together, we can achieve a better and more secure future for our children and grandchildren.

On Peace Officers Memorial Day and during Police Week, we honor the heroism of all our law enforcement officers, especially those who have given their lives so that others might live. They performed their jobs with extraordinary distinction, and a proud and grateful Nation will always remember their service and sacrifice. We ask God's blessings for the families and friends they left behind.

By a joint resolution approved October 1, 1962, as amended, (76 Stat. 676), the Congress has authorized and requested the President to designate May 15 of each year as “Peace Officers Memorial Day” and the week in which it falls as “Police Week,” and by Public Law 103-322, as amended, (36 U.S.C. 136), has directed that the flag be flown at half staff on Peace Officers Memorial Day.

NOW, THEREFORE, I, GEORGE W. BUSH, President of the United States of America, do hereby proclaim May 15, 2006, as Peace Officers Memorial Day and May 14 through May 20, 2006, as Police Week. I call on all Americans to observe these events with appropriate ceremonies and activities. I also call on Governors of the United States and the Commonwealth of Puerto Rico, as well as appropriate officials of all units of government, to direct that the flag be flown at half staff on Peace Officers Memorial Day. I further encourage all Americans to display the flag at half staff from their homes and businesses on that day.

IN WITNESS WHEREOF, I have hereunto set my hand this eleventh day of May, in the year of our Lord two thousand six, and of the Independence of the United States of America the two hundred and thirtieth.

B

[FR Doc. 06-4620

Filed 5-15-06; 8:45 am]

Billing code 3195-01-P